FEDERAL COMMUNICATIONS COMMISSION

47 CFR Part 63

[IB Docket No. 16-155; FCC 20-133; FR ID 243431]

Process Reform for Executive Branch Review of Certain FCC Applications and Petitions Involving Foreign Ownership

AGENCY: Federal Communications Commission.

ACTION: Final rule; announcement of effective date.

SUMMARY: In this document, the Wireline Competition Bureau (Bureau) announces that the Office of Management and Budget (OMB) has approved revisions to the information collection requirements under OMB Control Number 3060-0989, as associated with additional requirements added in FCC 20-133, adopted September 30, 2020, to section 63.04(a)(4)(i) and (ii) of the Commission's rules for carrier applicants seeking domestic section 214 authorization to transfer control. Pursuant to section 63.04(a)(4)(i) and (ii), applicants must specify the pre-transaction and post-transaction direct and indirect equity and voting interests of any persons or entity owning 10 percent or more of the applicants, as well as provide an ownership diagram that illustrates the applicant's vertical ownership structure.

DATES: The amendments to 47 CFR 63.04(a)(4)(i) and (ii), published at 85 FR 76360 on November 27, 2020, are effective on September 11, 2024

FOR FURTHER INFORMATION CONTACT: Randall Sifers, Competition Policy Division, Wireline Competition Bureau, at (202) 418-2325 or email: Randall.Sifers@fcc.gov. For additional information concerning the Paperwork Reduction Act information collection requirements, contact Nicole Ongele at (202) 418-2991 or Nicole. Ongele@fcc.gov.

SUPPLEMENTARY INFORMATION: On November 3, 2022, OMB approved, for a period of three years, the information collection requirements in 47 CFR 63.04(a)(4)(i) and (ii). These rule sections were adopted in the Process Reform for Executive Branch Review of Certain FCC Applications and Petitions Involving Foreign Ownership, Report and Order, FCC 20-133. The full text of this document is available on the Commission's website at https://docs.fcc.gov/public/attachments/FCC-20-133A1.pdf. The Commission publishes this document as an announcement of the effective date for these amended rules.

If you have any comments on the burden estimates listed below, or how the Commission can improve the collections and reduce any burdens caused thereby, please contact Nicole Ongele, Federal Communications Commission, 45 L Street NE, Washington, DC 20554. Please include the OMB Control Number 3060-0989 in your correspondence. The Commission also will accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on November 3, 2022 for the information collection requirements contained in the modifications to the Commission's rules for filing procedures for domestic transfer of control applications in 47 CFR 63.04(a)(4).

Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in 47 CFR 63.04 (a)(4)(i) and (ii) is 3060-0989.

The foregoing notice is required by the Paperwork Reduction Act of 1995, Public Law 104-13, October 1, 1995, and 44 U.S.C. 3507.

The total annual reporting burdens and costs for the respondents are as follows:

OMB Control Number: 3060-0989.

OMB Approval Date: November 03, 2022.

OMB Expiration Date: November 30, 2025.

Title: Sections 63.01, 63.03, and 63.04, Procedures for Applicants Requiring Section 214 Authorization for Domestic Interstate Transmission Lines Acquired Through Corporate Control.

Form Number: N/A.

Type of Review: Revision of currently-approved collection.

Respondents: Business or other for-profit entities.

Number of Respondents and Responses: 92 respondents; 92 responses.

Estimated Time per Response: 11 hours.

Frequency of Response: On-occasion reporting requirement.

Obligation to Respond: Mandatory. The statutory authority for part 63 of this information collection is contained in 47 U.S.C. 151, 154(i), 154(j), 155, 303(r), and 309.

Total Annual Burden: 1,201 hours.

Total Annual Cost: $107,925.

Needs and Uses: On September 30, 2020, the Commission adopted a Report and Order (released on October 1, 2020) to reduce the need for supplemental requests and to ensure expeditious processing of applications by adding the requirements in section 63.04(a)(4) for carrier applicants seeking domestic section 214 authorization to transfer control to specify the pre-transaction and post-transaction direct and indirect equity and voting interests of any persons or entity owning 10 percent or more of the applicants, as well as provide an ownership diagram that illustrates the applicant's vertical ownership structure.

Federal Communications Commission.
Marlene Dortch,
Secretary, Office of the Secretary.

[FR Doc. 2024-20535 Filed 9-10-24; 8:45 am]

BILLING CODE 6712-01-P